DEPARTMENT OF COMMERCE

National Oceanic and Atmospheric Administration

RIN 0648-XE737

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a joint meeting of its Shrimp Advisory Panel (AP), Coral Advisory Panel, and Coral Statistical and Scientific Committee (SSC).

DATES: The meeting will convene Wednesday, August 3, 2016, from 8 a.m. to 5 p.m. and Thursday, August 4, 2016, from 8 a.m. to 12 p.m. (EDT)

ADDRESSES: The meeting will take place at the Council's office.

Council address: Gulf of Mexico Fishery Management Council, 2203 N. Lois Avenue, Suite 1100, Tampa, FL 33607; telephone: (813) 348-1630.

FOR FURTHER INFORMATION CONTACT: Dr. Morgan Kilgour, Fishery Biologist, Gulf of Mexico Fishery Management Council; morgan.kilgour@gulfcouncil.org; telephone: (813) 348-1630.

SUPPLEMENTARY INFORMATION: The items of discussion on the agenda are as follows:

The Shrimp AP, Coral AP and Coral SSC will meet jointly to review the coral data portal; discuss the proposed Flower Garden Banks National Marine Sanctuary and the Florida Keys National Marine Sanctuary expansions; discuss potential Habitat Areas of Particular Concern (HAPC) in the Gulf of Mexico; and provide recommendations to the Council for the August 2016 Council meeting.

—Meeting Adjourns—

The Agenda is subject to change, and the latest version along with other meeting materials will be posted on the Council's file server. To access the file server, the URL is https://public.gulfcouncil.org:5001/webman/index.cgi, or go to the Council's Web site and click on the File Server link in the lower left of the Council Web site (http://www.gulfcouncil.org). The username and password are both “gulfguest”. Click on the “Library Folder”, then scroll down to “Joint Shrimp AP and Coral AP/SSC”.

The meeting will be webcast over the internet. A link to the webcast will be available on the Council's Web site, http://www.gulfcouncil.org.

Although other non-emergency issues not on the agenda may come before the Committees for discussion, in accordance with the Magnuson-Stevens Fishery Conservation and Management Act, those issues may not be the subject of formal action during this meeting. Actions of the Committees will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: July 13, 2016.
Tracey L. Thompson,
Acting Deputy Director, Office of Sustainable Fisheries, National Marine Fisheries Service.

[FR Doc. 2016-16915 Filed 7-15-16; 8:45 am]

BILLING CODE 3510-22-P